DEPARTMENT OF AGRICULTURE

Agricultural Marketing Service

[Document No. AMS-TM-21-0041]

Meat and Poultry Interstate Shipment and Inspection Readiness Program; Request for Emergency Approval of a New Information Collection

Correction

In notice document 2021-10490 beginning on page 27063 in the issue of Wednesday, May 19, 2021, make the following correction:

On page 27063, in the first column, in the 11th line from the bottom, “May 19, 2021” should read “July 19, 2021”.

[FR Doc. C1-2021-10490 Filed 5-27-21; 8:45 am]

BILLING CODE 0099-10-P